ENVIRONMENTAL PROTECTION AGENCY

40 CFR Part 52

[EPA-R06-OAR-2013-0804; FRL-9925-13-Region 6]

Approval and Promulgation of Implementation Plans; Texas; Reasonably Available Control Technology for the 1997 8-Hour Ozone National Ambient Air Quality Standard

AGENCY: Environmental Protection Agency (EPA).

ACTION: Final rule.

SUMMARY: The Environmental Protection Agency (EPA) is finalizing its proposal to approve revisions to the Texas State Implementation Plan (SIP) for the Houston/Galveston/Brazoria (HGB) and Dallas Fort Worth (DFW) 1997 8-Hour ozone nonattainment areas. The HGB area consists of Brazoria, Chambers, Fort Bend, Galveston, Harris, Liberty, Montgomery and Waller counties. The DFW area consists of Collin, Dallas, Denton, Ellis, Johnson, Kaufman, Parker, Rockwall, and Tarrant counties. Specifically, we are approving portions of multiple revisions to the Texas SIP submitted by the Texas Commission on Environmental Quality (TCEQ) as meeting Reasonably Available Control Technology (RACT) requirements. The RACT requirements apply to sources of Volatile Organic Compounds (VOC) and Oxides of Nitrogen (NOx) in these areas. This action is in accordance with the federal Clean Air Act (the Act, CAA).

DATES: This rule will be effective on April 27, 2015.

ADDRESSES: The EPA has established a docket for this action under Docket ID No. EPA-R06-OAR-2013-0804. All documents in the docket are listed on the www.regulations.gov Web site. Although listed in the index, some information is not publicly available, e.g., Confidential Business Information or other information whose disclosure is restricted by statute. Certain other material, such as copyrighted material, is not placed on the Internet and will be publicly available only in hard copy form. Publicly available docket materials are available either electronically through www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays.

FOR FURTHER INFORMATION CONTACT: Mr. Alan Shar (6PD-L), telephone (214) 665-2164, email shar.alan@epa.gov. To schedule an appointment contact Alan Shar.

SUPPLEMENTARY INFORMATION: Throughout this document “we,” “us,” and “our” refer to EPA.

Outline

I. Background

II. Public Comments

III. Submittals

IV. Negative Declarations

V. Final Actions

VI. Incorporation by Reference

VII. Statutory and Executive Order Reviews

I. Background

On January 21, 2014 (80 FR 2846) we proposed to approve revisions to the Texas SIP that the TCEQ submitted to EPA in multiple RACT-related rule revisions dated December 6, 2013, January 17, 2012, June 13, 2007, as well as the RACT analysis portions of attainment demonstration plans of January 17, 2012, April 6, 2010, and June 13, 2007 for the DFW and HGB areas. Details of these submittals and their evaluation were explained in our proposal, and its corresponding Technical Supporting Document. A summary of these submittals is described in section III.

On August 4, 2014 (79 FR 45105) we approved RACT for the Offset Lithographic Printing Operations in the DFW (Serious) and HGB (Severe) areas. See docket No. EPA-R06-OAR-2010-0332 at www.regulations.gov. Also, on September 9, 2014 (79 FR 53299) we approved revisions to 30 TAC Chapter 115 for control of VOC emissions for storage tanks in the DFW (Serious) and HGB (Severe) areas. See docket No. EPA-R06-OAR-2012-0096 at www.regulations.gov.

II. Public Comments

The public comment period for the January 21, 2015 (80 FR 2846) proposal expired on February 20, 2015, and we did not receive any comments on the proposed actions during this period. Therefore, we are approving the January 21, 2015 (80 FR 2846) proposal without any changes into the Texas SIP.

III. Submittals

The December 6, 2013 submittal concerned rule revisions to 30 TAC, Chapter 115 Control of Air Pollution from Volatile Organic Compounds for solvent using processes and surface coating application systems. We are approving all of this submittal into the Texas SIP.

The January 17, 2012 submittal concerned rule revisions to 30 TAC, Chapter 115 Control of Air Pollution from Volatile Organic Compounds intended to implement RACT for both HGB and DFW areas. The submittal will limit VOC content of coatings and solvents used in Flexible Package Printing, Industrial Cleaning Solvents, Large Appliance Coatings, Metal Furniture Coatings, Paper, Film, and Foil Coatings, Miscellaneous Industrial Adhesives, Automobile and Light-Duty Truck Assembly Coatings, and Miscellaneous Metal and Plastic Parts Coatings operations. We are approving all of this submittal into the Texas SIP.

Another submittal also dated January 17, 2012 contained a corresponding analysis to demonstrate RACT is in place for multiple source categories in the HGB area. We are approving that RACT is in place for the source categories listed in the paragraph above, and we are approving the Flexographic and Rotogravure Printing sector for the HGB area of the RACT-related rule revisions which had not been previously approved.

A third SIP submittal dated January 17, 2012 contained RACT analysis for the DFW area. As a result of this submittal, and consistent with section 182(c) of the Act, the VOC or NOx major source threshold in the DFW area is lowered to 50 Tons Per Year (TPY) from 100 TPY for RACT purposes under the 1997 8-Hour ozone standard. See EPA-R06-OAR-2012-0098 at www.regulations.gov. We are approving the RACT analysis portion of this submittal.

The April 6, 2010 attainment demonstration submittal, among other things, concerned revisions to 30 TAC, Chapter 115 Control of Air Pollution from Volatile Organic Compounds for control of ozone pollution in the HGB area. Appendix D of this attainment demonstration plan was titled “Reasonably Available Control Technology Analysis,” and included source categories affected by the newly EPA-issued Control Techniques Guidelines (CTGs), and NOx emissions sources. We are approving the RACT analysis portion of this submittal.

The June 13, 2007 attainment demonstration submittal concerned revisions to 30 TAC, Chapter 115 Control of Air Pollution from Volatile Organic Compounds. The June 13, 2007 submittal included an analysis intended to demonstrate RACT was being implemented in the HGB area as required by the CAA (Appendix B of the submittal). We are approving the RACT analysis portion of this submittal.

The submittals concerning these nonattainment areas are available at www.regulations.gov, docket ID No. EPA-R06-OAR-2013-0804 under the “supporting and related materials.”

We are approving the above-mentioned revisions, as well as confirming the RACT finding for revisions previously approved for Texas, into the Texas SIP. We are approving Texas' RACT analysis as meeting the RACT requirements for all affected VOC and NOx sources for the DFW and HGB areas for the 1997 8-Hour ozone standard.

IV. Negative Declarations

The January 21, 2015 (80 FR 2846) proposal included a list of source categories that do not operate within these nonattainment areas.

For the DFW area, Texas declared that there were no fiberglass boat manufacturing materials, ship building and ship repair coating, leather tanning and finishing, surface coating for flat wood paneling, vegetable oil manufacturing, plywood veneer dryers, rubber tire manufacturing, and batch processes operations. We are approving the VOC RACT negative declaration for these operations in the DFW area.

For the HGB area, on April 15, 2014 (79 FR 21144), we approved the VOC RACT negative declarations for fiberglass boat manufacturing materials, leather tanning and finishing, surface coating for flat wood paneling, letterpress printing, automobile and light-duty truck assembly coating, rubber tire manufacturing, and vegetable oil manufacturing operations. See 40 CFR 52.2270(e).

However, if a major source of these categories locates in these nonattainment areas in future, then TCEQ will need to take appropriate regulatory measures.

V. Final Actions

We are approving rule revisions to sections 30 TAC chapter 115.422, 115.427, 115.429, 115.430, 115.432, 115.433, 115.435, 115.436, and 115.439 implementing controls on the following source categories: Flat Wood Paneling Coatings, Flexible Packaging Printing Materials, Industrial Cleaning Solvents, Offset Lithographic and Letterpress Printing, Large Appliance Coatings, Metal Furniture Coatings, Paper, Film, and Foil Coatings, Auto and Light-Duty Truck Assembly Coatings, Fiberglass Boat Manufacturing Materials, Miscellaneous Industrial Adhesives, and Miscellaneous Metal and Plastic Parts Coatings.

We are approving new sections 30 TAC chapter 115.431, 115.450, 115.451, 115.453-115.455, 115.458-115.461, 115.463-115.465, 115.468-115.471, 115.473-115.475, 115.478, and 115.479 implementing controls on the source categories listed above.

We are approving repeal of section 30 TAC chapter 115.437.

We are approving to find that for VOC CTG categories identified above, Texas has RACT-level controls in place for the HGB and DFW areas under the 1997 8-Hour ozone standard.

We are approving to find that Texas has RACT-level controls in place for the Flexographic and Rotogravure Printing operations for the HGB area.

We are approving the negative declarations as explained in section IV of this action.

We are approving NOx RACT for the DFW area under the 1997 8-Hour ozone standard.

In consideration of the above rule revisions, as well as the rule revisions previously approved and the rules in 30 TAC Chapters 115 and 117, we are approving that, Texas is implementing RACT for all affected VOC and NOx sources in the HGB and DFW areas under the 1997 8-Hour ozone standard.

We are approving these revisions in accordance with sections 110, 182, and 183 of the federal CAA.

The EPA had previously approved RACT for all affected NOx sources for the HGB area under the 1997 8-Hour ozone standard.

The EPA had previously approved RACT for all affected VOC and NOx sources into Texas' SIP under the 1-Hour ozone standard.

VI. Incorporation by Reference

In this rule, we are finalizing regulatory text that includes incorporation by reference. In accordance with the requirements of 1 CFR 51.4, we are finalizing the incorporation by reference of the revisions to the Texas regulations as described in the Final Action section above. We have made, and will continue to make, these documents generally available electronically through www.regulation.gov, Docket ID. No. EPA-R06-OAR-2013-0804.

VII. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this final action approves state law as meeting Federal requirements and does not impose additional requirements beyond those imposed by state law. For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act;

• Does not provide EPA with the discretionary authority to address, as appropriate, disproportionate human health or environmental effects, using practicable and legally permissible methods, under Executive Order 12898 (59 FR 7629, February 16, 1994); and

• Does not have tribal implications as specified by Executive Order 13175 (65 FR 67249, November 9, 2000), because the SIP is not approved to apply in Indian country located in the state, and EPA notes that it will not impose substantial direct costs on tribal governments or preempt tribal law.

Under section 307(b)(1) of the Clean Air Act, petitions for judicial review of this action must be filed in the United States Court of Appeals for the appropriate circuit by May 26, 2015. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

Authority: 42 U.S.C. 7401 et seq.

List of Subjects in 40 CFR Part 52

Environmental protection, Air pollution control, Hydrocarbons, Incorporation by reference, Intergovernmental relations, Reporting and recordkeeping requirements, Volatile organic compounds.

Dated: March 16, 2015.
Samuel Coleman,
Acting Regional Administrator, Region 6.

Part 52, chapter I, title 40 of the Code of Federal Regulations is amended as follows:

PART 52—APPROVAL AND PROMULGATION OF IMPLEMENTATION PLANS

1. The authority citation for Part 52 continues to read as follows:

Authority: 42 U.S.C. 7401 et seq.

Subpart SS—Texas

2. In § 52.2270:

a. In paragraph (c), the table is amended under Chapter 115 (Reg 5) as follows:

i. Revising the entries for Sections 115.422, 115.427, and 115.429 under “Subchapter E—Solvent Using—Process,” “Division 2: Surface Coating Processes”.

ii. Adding new entry for Section 115.431 in numerical order under “Subchapter E—Solvent Using—Process,” “Division 3: Flexographic and Rotogravure Printing”.

iii. Removing the entry for Section 115.437 under “Subchapter E—Solvent Using—Process,” “Division 3: Flexographic and Rotogravure Printing”.

iv. Revising the entries for Sections 115.430, 115.432, 115.433, 115.435, 115.436, and 115.439 under “Subchapter E—Solvent Using—Process,” “Division 3: Flexographic and Rotogravure Printing”.

v. Adding new entries for Sections 115.450, 115.451, 115.453, 115.454, 115.455, 115.458, 115.459 under “Subchapter E—Solvent Using—Process,” “Division 5: Control Requirements for Surface Coating Processes”.

vi. Adding new entries for Sections 115.460, 115.461, 115.463, 115.464, 115.465, 115.468, and 115.469, under “Subchapter E—Solvent Using—Process,” “Division 6: Industrial Cleaning Solvents”.

vii. Adding new entries for Sections 115.470, 115.471, 115.473, 115.474, 115.475, 115.478, and 115.479 under “Subchapter E—Solvent Using—Process,” “Division 7: Miscellaneous Industrial Adhesives”.

b. In paragraph (e), the table titled “EPA approved nonregulatory provisions and quasi-regulatory measures in the Texas SIP” is amended by adding four new entries at the end.

The revisions and additions read as follows:

§ 52.2270 Identification of plan.

* * * * *

(c) * * *

EPA Approved Regulations in the Texas SIP
State citation | Title/Subject | State approval/submittal date | EPA Approval date | Explanation
* * * * * * *
Chapter 115 (Reg 5)—Control of Air Pollution From Volatile Organic Compounds
* * * * * * *
Subchapter E—Solvent-Using Processes
* * * * * * *
Division 2: Surface Coating Processes
* * * * * * *
Section 115.422 | Control Requirements | 01/17/12 | 3/27/15 [Insert FR citation].
* * * * * * *
Section 115.427 | Exemptions | 01/17/12 | 3/27/15 [Insert FR citation].
Section 115.429 | Counties and Compliance Schedules | 01/17/12 | 3/27/15 [Insert FR citation].
Division 3: Flexographic and Rotogravure Printing
Section 115.430 | Applicability and Definitions | 01/17/12 | 3/27/15 [Insert FR citation].
Section 115.431 | Exemptions | 01/17/12 | 3/27/15 [Insert FR citation].
Section 115.432 | Control Requirements | 01/17/12 | 3/27/15 [Insert FR citation].
Section 115.433 | Alternate Control Requirements | 01/17/12 | 3/27/15 [Insert FR citation].
Section 115.435 | Testing Requirements | 01/17/12 | 3/27/15 [Insert FR citation].
Section 115.436 | Monitoring and Recordkeeping Requirements | 01/17/12 | 3/27/15 [Insert FR citation].
Section 115.439 | Counties and Compliance Schedules | 01/17/12 | 3/27/15 [Insert FR citation].
* * * * * * *
Division 5: Control Requirements for Surface Coating Processes
Section 115.450 | Applicability and Definitions | 01/17/12 | 3/27/15 [Insert FR citation].
Section 115.451 | Exemptions | 01/17/12 | 3/27/15 [Insert FR citation].
Section 115.453 | Control Requirements | 12/6/13 | 3/27/15 [Insert FR citation].
Section 115.454 | Alternate Control Requirements | 01/17/12 | 3/27/15 [Insert FR citation].
Section 115.455 | Approved Test Methods and Testing Requirements | 01/17/12 | 3/27/15 [Insert FR citation].
Section 115.458 | Monitoring and Recordkeeping Requirements | 01/17/12 | 3/27/15 [Insert FR citation].
Section 115.459 | Compliance Schedules | 01/17/12 | 3/27/15 [Insert FR citation].
Division 6: Industrial Cleaning Solvents
Section 115.460 | Applicability and Definitions | 01/17/12 | 3/27/15 [Insert FR citation].
Section 115.461 | Exemptions | 01/17/12 | 3/27/15 [Insert FR citation].
Section 115.463 | Control Requirements | 01/17/12 | 3/27/15 [Insert FR citation].
Section 115.464 | Alternate Control Requirements | 01/17/12 | 3/27/15 [Insert FR citation].
Section 115.465 | Approved Test Methods and Testing Requirements | 01/17/12 | 3/27/15 [Insert FR citation].
Section 115.468 | Monitoring and Recordkeeping Requirements | 01/17/12 | 3/27/15 [Insert FR citation].
Section 115.469 | Compliance Schedules | 01/17/12 | 3/27/15 [Insert FR citation].
Division 7: Miscellaneous Industrial Adhesives
Section 115.470 | Applicability and Definitions | 01/17/12 | 3/27/15 [Insert FR citation].
Section 115.471 | Exemptions | 01/17/12 | 3/27/15 [Insert FR citation].
Section 115.473 | Control Requirements | 01/17/12 | 3/27/15 [Insert FR citation].
Section 115.474 | Alternate Control Requirements | 01/17/12 | 3/27/15 [Insert FR citation].
Section 115.475 | Approved Test Methods and Testing Requirements | 01/17/12 | 3/27/15 [Insert FR citation].
Section 115.478 | Monitoring and Recordkeeping Requirements | 01/17/12 | 3/27/15 [Insert FR citation].
Section 115.479 | Compliance Schedules | 01/17/12 | 3/27/15 [Insert FR citation].
* * * * * * *

* * * * *

(e) * * *

EPA Approved Nonregulatory Provisions and Quasi-Regulatory Measures in the Texas SIP
Name of SIP provision | Applicable geographic or non-attainment area | State approval/ submittal date | EPA Approval date | Comments
* * * * * * *
NOX RACT finding for the 1997 8-hour ozone NAAQS | Collin, Dallas, Denton, Tarrant, Ellis, Johnson, Kaufman, Parker, and Rockwall Counties, TX | 01/17/12 | 3/27/15 [Insert FR citation] | DFW as Moderate and Serious.
VOC RACT finding of negative declaration for Fiberglass Boat Manufacturing Materials, Ship Building and Ship Repair Coating, Leather Tanning and Finishing, Surface Coating for Flat Wood Paneling, Vegetable Oil Manufacturing, Letterpress Printing, Plywood Veneer Dryers, Rubber Tire Manufacturing, and Batch Processes Operations | Collin, Dallas, Denton, Tarrant, Ellis, Johnson, Kaufman, Parker, and Rockwall Counties, TX | 01/17/12 | 3/27/15 [Insert FR citation] | DFW as Moderate and Serious.
VOC RACT finding for all sectors under the 1997 8-hour ozone NAAQS, including the 2006-2008 EPA-issued CTG series and non-CTG major sources | Collin, Dallas, Denton, Tarrant, Ellis, Johnson, Kaufman, Parker, and Rockwall Counties, TX | 01/17/12 | 3/27/15 [Insert FR citation] | DFW as Moderate and Serious.
VOC RACT finding for all sectors under the 1997 8-hour ozone NAAQS, including the 2006-2008 EPA-issued CTG series and non-CTG major sources | Brazoria, Chambers, Fort Bend, Galveston, Harris, Liberty, Montgomery and Waller Counties, TX | 01/17/12 | 3/27/15 [Insert FR citation] | HGB as Severe.

* * * * *

[FR Doc. 2015-06847 Filed 3-26-15; 8:45 am]

BILLING CODE 6560-50-P